OFFICE OF PERSONNEL MANAGEMENT

5 CFR Part 532

RIN 3206-AJ23

Prevailing Rate Systems; Redefinition of the Los Angeles, CA, Appropriated Fund Wage Area

AGENCY: Office of Personnel Management.

ACTION: Final rule.

SUMMARY: The Office of Personnel Management (OPM) is issuing a final rule to remove Inyo County, CA, from the Los Angeles, CA, appropriated fund Federal Wage System (FWS) wage area. The county, excluding the China Lake Naval Weapons Center portion, will be defined to the Las Vegas, NV, FWS wage area. This will affect FWS employees at Death Valley National Park by placing them on a higher wage schedule.

DATES: Effective Date: This regulation is effective on January 18, 2001.

FOR FURTHER INFORMATION CONTACT: Chenty I. Carpenter by phone at (202) 606-2838, by FAX at (202) 606-4264, or by email at cicarpen@opm.gov.

SUPPLEMENTARY INFORMATION: On August 17, 2000, the Office of Personnel Management (OPM) published a proposed rule (65 FR 50165) to move Inyo County, California, from the Los Angeles, CA, appropriated fund Federal Wage System (FWS) wage area to the Las Vegas, NV, FWS wage area. The proposed rule had a 30-day period for public comment, during which we received no comments.

OPM considers the following regulatory criteria under 5 CFR 532.211 when defining FWS wage area boundaries:

(i) Distance, transportation facilities, and geographic features;

(ii) Commuting patterns; and

(iii) Similarities in overall population employment, and the kinds and sizes of private industrial establishments.

Inyo County is currently an area of application county in the Los Angeles wage area. Based on our analysis of the regulatory criteria for defining appropriated fund FWS wage areas, we find that Inyo County, excluding the portion occupied by China Lake Naval Weapons Center, should be part of the Las Vegas wage area. The distance criterion is the major factor in our determination. The county is much closer to the Las Vegas survey area than to the Los Angeles survey area. Inyo County is approximately 429 km (267 miles) from Los Angeles and 194 km (120 miles) from Las Vegas. The county is approximately 203 km (126 miles) from Nellis Air Force Base, the Las Vegas wage area's host installation. We reviewed the other criteria, but they did not favor one wage area more than another. The Las Vegas, NV, FWS wage area will consist of two survey counties, Clark and Nye Counties, NV, and four area of application counties, Esmeralda and Lincoln Counties, NV, Mohave County, AZ, and Inyo County, CA.

China Lake Naval Weapons Center is located in Inyo, Kern, and San Bernardino Counties, CA. China Lake Naval Weapons Center will remain a part of the Los Angeles FWS wage area so that the installation can continue to be defined to a single wage area. The regulatory criteria we use to define FWS wage areas indicate that the main employment locations for FWS employees at China Lake are properly defined to the Los Angeles wage area.

The Federal Prevailing Rate Advisory Committee (FPRAC), the national labor-management committee that advises OPM on FWS pay matters, recommended these changes by consensus. Based on its review of the regulatory criteria for defining FWS wage areas, FPRAC recommended no other changes in the geographic definition of the Los Angeles FWS wage area.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Janice R. Lachance,
Director.

Accordingly, the Office of Personnel Management is amending 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of California is amended by revising the listing for Los Angeles; and for the State of Nevada, by revising the listing for Las Vegas, to read as follows:

Appendix C to Subpart B of Part 532—Appropriated Fund Wage and Survey Areas

* * * * *

California

* * * * *

Los Angeles

Survey Area

California:

Los Angeles

Area of Application. Survey area plus:

California:

Inyo (Includes the China Lake Naval Weapons Center portion only)

Kern (Includes the China Lake Naval Weapons Center, Edwards Air Force Base, and portions occupied by Federal activities at Boron (City) only)

Orange

Riverside (Includes the Joshua Tree National Monument portion only)

San Bernardino (All of San Bernardino County except that portion occupied by, and south and west of, the Angeles and San Bernardino National Forests)

Ventura

* * * * *

Nevada

Las Vegas

Survey Area

Nevada:

Clark

Nye

Area of Application. Survey area plus:

Nevada:

Esmeralda

Lincoln

Arizona:

Mohave

California:

Inyo (Excludes the China Lake Naval Weapons Center portion only)

* * * * *

[FR Doc. 00-32285 Filed 12-18-00; 8:45 am]

BILLING CODE 6325-01-U